DEPARTMENT OF ENERGY

Federal Energy Regulatory Commission

[Docket No. ER04-931-000, et al.]

Ameren Corp., et al.; Electric Rate and Corporate Filings

October 18, 2004.

The following filings have been made with the Commission. The filings are listed in ascending order within each docket classification.

1. Ameren Corp.

[Docket No. ER04-931-002]

Take notice that on October 12, 2004, the Midwest Independent Transmission System Operator, Inc. (Midwest ISO) and Ameren Services Company (Ameren) submitted a Contract among Southwestern Power Administration, Ameren Service Company, as designated agent for Union Electric Company d/b/a AmerenUE, and the Midwest ISO, in compliance with the Commission's order issued August 12, 2004 in Docket No. ER04-931-000.

Midwest ISO and Ameren state that copies of the filing were served upon the service list compiled by the Secretary in this proceeding and the parties to the agreement.

Comment Date: 5 p.m. Eastern Time on November 2, 2004.

2. Southern California Edison Company

[Docket Nos. ER04-1145-001, ER04-1146-001]

Take notice that on October 12, 2004 Southern California Edison Company (SCE) submitted for filing substitute tariff sheets for the Graham Street Service Agreement for Wholesale Distribution Service, Service Agreement No. 115 under SCE's Wholesale Distribution Access Tariff (WDAT), FERC Electric Tariff, First Revised Volume No. 5, and the Globe Street WDAT Service Agreement, Service Agreement No. 117 under the WDAT, between SCE and the City of Moreno Valley, California (Moreno Valley) originally filled on August 23, 2004.

SCE states that copies of the filing were served on parties on the official service list in the above captioned proceedings and Moreno Valley.

Comment Date: 5 p.m. Eastern Time on November 2, 2004.

3. Illinois Power Company

[Docket No. ER04-1262-001]

Take notice that on October 12, 2004 Illinois Power Company (Illinois Power) submitted a request to withdraw Service Agreement 349 from the Notice of Cancellation for certain service agreements under Illinois Power's Open Access Transmission Tariff filed on September 30, 2004 in Docket No. ER04-1262-000.

Comment Date: 5 p.m. Eastern Time on November 2, 2004.

4. Southern Company Services, Inc.

[Docket No. ER03-1381-003]

Take notice that on October 12, 2004, Southern Company Services, Inc., (SCS as agent for Georgia Power Company, submitted a compliance filing in accordance with the Commission's order issued September 10, 2004 in Southern Company Services, Inc., 108 FERC 61,229 (2004).

Comment Date: 5 p.m. Eastern Time on November 2, 2004.

5. Southern Company Services, Inc.

[Docket No. ER05-13-000]

Take notice that on October 1, 2004, Southern Company Services, Inc. (SCS) acting on behalf of Georgia Power Company, (GPC) filed with the Commission a Notice of Cancellation of Interconnection Agreement between Southern Power Company and GPC (Service Agreement No. 463 under Southern Companies' Open Access Transmission Tariff, Fourth Revised Volume No. 5). SCS requests an effective date of September 1, 2004.

Comment Date: 5 p.m. Eastern Time on October 28, 2004.

6. American Electric Power Service Corporation

[Docket No. ER05-31-000]

Take notice that on October 12, 2004, the American Electric Power Service Corporation (AEPSC) tendered for filing First Revised FERC Rate Schedule I&M No. 22 which supersedes Original FERC Rate Schedule I&M No. 22 between Indiana Michigan Power Company and Northern Indiana Public Service Company. AEPSC requests an effective date of October 11, 2004.

AEPSC states that a copy of the filing was served upon Northern Indiana Public Service Company and the Indiana Utility Regulatory Commission and Michigan Public Service Commission.

Comment Date: 5 p.m. Eastern Time on November 2, 2004.

7. Mirant Delta, LLC, Mirant Potrero, LLC.

[Docket No. ER05-32-000]

Take notice that, on October 12, 2004, Mirant Delta, LLC (Mirant Delta) and Mirant Potrero, LLC (Mirant Potrero) (collectively, Mirant) tendered for filing certain revised tariff sheets to the Reliability Must-Run Service Agreements between Mirant Delta, Mirant Potrero, and the California Independent System Operator Corporation. Mirant states that the revisions amend the ramp rates set forth in Schedule A of Mirant's RMR Agreements. Mirant requests an effective date of October 1, 2004.

Comment Date: 5 p.m. Eastern Time on November 2, 2004.

8. Delmarva Power & Light Company

[Docket No. ER05-33-000]

Take notice that on October 12, 2004, Delmarva Power & Light Company (Delmarva) tendered for filing a Notice of Cancellation and an Order No. 614 compliant cancelled rate schedule sheet (collectively referred to as Cancellation Documents) terminating a previously filed interconnection agreement between Delmarva and the Delaware City of Dover. Delmarva also tendered for filing an executed Interconnection Agreement with the City of Dover (Dover IA). Delmarva requests an effective date of September 11, 2004 for the Cancellation Documents and an effective date of September 12, 2004 for Dover IA.

Delmarva states that copies of the filing were served upon the City of Dover and the Delaware Public Service Commission.

Comment Date: 5 p.m. Eastern Time on November 2, 2004.

9. Tenaska-Oxy Power Services, L.P.

[Docket No. ER05-38-000]

Take notice that on October 12, 2004, Tenaska-Oxy Power Services, L.P (TOPS), tendered for filing with the Commission, pursuant to 18 CFR 35.13 (2004), a petition to amend its market-based rate tariff to sell ancillary services and resell transmission rights.

Comment Date: 5 p.m. Eastern Time on November 2, 2004.

10. Tenaska Power Services Co.

[Docket No. ER05-39-000]

Take notice that on October 12, 2004, Tenaska Power Services Co. (TPS), tendered for filing with the Commission, pursuant to 18 CFR 35.13 (2004), a petition to amend its market-based rate tariff to sell ancillary services and resell transmission rights.

Comment Date: 5 p.m. Eastern Time on November 2, 2004.

11. Entergy Services, Inc.

[Docket No. ER05-40-000]

Take notice that on October 12, 2004, Entergy Services, Inc. (Entergy), tendered a Notice of Cancellation of Service Agreements between Entergy and American Energy Solutions, Inc., Columbia Energy Power Marketing Corporation, Continental Energy Services, L.L.C., DePere Energy Marketing, Inc., Edison Source, MidCon Power Services Corporation, PEC Energy Marketing, Inc., Power Company of America, L.P., and Statoil Energy Trading, Inc., under Entergy's FERC Electric Tariff, Second Revised Volume No. 3, pursuant to 35.13 of the Commission Rules and Regulations. 18 CFR 35.15 (2004).

Comment Date: 5 p.m. Eastern Time on November 2, 2004.

12. Oasis Power Partners, LLC.

[Docket No. ER05-41-000]

Take notice that on October 12, 2004, Oasis Power Partners, LLC (Oasis) filed an initial rate schedule to sell capacity, energy, and ancillary services at market-based rates.

Comment Date: 5 p.m. Eastern Time on November 2, 2004.

13. Baltimore Gas and Electric Company

[Docket No. ES05-3-000]

Take notice that on October 8, 2004, Baltimore Gas and Electric Company (BG&E) submitted an application pursuant to section 204 of the Federal Power Act seeking authorization to issue not later than December 31, 2006, short-term unsecured promissory notes, commercial paper notes, medium term notes, and guarantees or assumptions of liabilities or obligations, in amounts outstanding at any one time totaling not in excess of $700 million.

Comment Date: 5 p.m. Eastern Time on November 4, 2004.

14. Old Dominion Electric Cooperative

[Docket No. ES05-5-000]

New Dominion Electric Cooperative

[Docket No. ES05-6-000]

New Dominion Electric Cooperative

[Docket No. ES05-7-000]

Take notice that on October 12, 2004, Old Dominion Electric Cooperative (Old Dominion) and New Dominion Electric Cooperative (New Dominion) submitted an application pursuant to section 204 of the Federal Power Act seeking authorization: (1) For Old Dominion to guarantee obligations of New Dominion in an amount not to exceed an aggregate of $500 million outstanding at any one time; (2) for New Dominion to guarantee obligations of Old Dominion in an amount not to exceed an aggregate of $1,500 million outstanding at any one time; and (3) for New Dominion to issue and renew short-term debt, including without limitation, commercial paper, notes or other obligations, in an amount not to exceed an aggregate of $500 million outstanding at any one time.

Old Dominion and New Dominion also request a waiver from the Commission's competitive bidding and negotiated placement requirements at 18 CFR 34.2.

Comment Date: 5 p.m. Eastern Time on October 29, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2836 Filed 10-22-04; 8:45 am]

BILLING CODE 6717-01-P